DEPARTMENT OF AGRICULTURE

Forest Service

Lake County Resource Advisory Committee

AGENCY: Forest Service, USDA.

ACTION: Notice of meeting.

SUMMARY: The Lake County Resource Advisory Committee (RAC) will hold a meeting.

DATES: The meeting will be held on July 19, 2007, from 3:30 p.m. to 5 p.m.

ADDRESSES: The meeting will be held at the Lake County Board of Supervisor's Chambers at 255 North Forbes Street, Lakeport, CA.

FOR FURTHER INFORMATION CONTACT: Debbie McIntosh, Committee Coordinator, USDA, Mendocino National Forest, Upper Lake Ranger District, 10025 Elk Mountain Road, Upper Lake, CA 95485. (707) 275-2361: e-mail dmcintosh@fs.fed.us.

SUPPLEMENTARY INFORMATION: Agenda items to be covered include: (1) Roll Call/Establish Quorum; (2) Review Minutes From the August 17, 2006 Meeting; (3) Introduction of New DFO & one prospective member; (4) Project up-date; (5) Project review and discussion; (6) Recommend projects/Vote on any projects if applicable; (7) Discuss Project Cost Accounting USFS/County of Lake; (8) Set Next Meeting Date; (9) Public Comment Period; Public input opportunity will be provided and individuals will have the opportunity to address the Committee at that time. (10) Adjourn.

Dated: June 10, 2007.
Jim Ruhl
Designated Federal Officer.

[FR Doc. 07-3016 Filed 6-19-07; 8:45 am]

BILLING CODE 3410-11-M